DEPARTMENT OF TRANSPORTATION

Federal Motor Carrier Safety Administration

[Docket No. FMCSA-2007-29019]

Qualification of Drivers; Exemption Applications; Vision

AGENCY: Federal Motor Carrier Safety Administration (FMCSA), DOT.

ACTION: Notice of applications for exemptions; request for comments.

SUMMARY: FMCSA announces receipt of applications from 27 individuals for exemptions from the vision requirement in the Federal Motor Carrier Safety Regulations. If granted, the exemptions would enable these individuals to qualify as drivers of commercial motor vehicles (CMVs) in interstate commerce without meeting the Federal vision standard.

DATES: Comments must be received on or before November 14, 2007.

ADDRESSES: You may submit comments bearing the Department of Transportation (DOT) Docket Management System (DMS) Docket Number FMCSA-2007-29019 using any of the following methods:

• Federal eRulemaking Portal: Go to http://www.regulations.gov. Follow the on-line instructions for submitting comments.

• Mail: Docket Management Facility; U.S. Department of Transportation, 1200 New Jersey Avenue, SE., West Building Ground Floor, Room W12-140, Washington, DC 20590-0001.

• Hand Delivery: West Building Ground Floor, Room W12-140, 1200 New Jersey Avenue, SE., Washington, DC, between 9 a.m. and 5 p.m., Monday through Friday, except Federal holidays.

• Fax: 1-202-493-2251.

Each submission must include the Agency name and the docket number for this Notice. Note that DOT posts all comments received without change to http://www.regulations.gov, including any personal information included in a comment. Please see the Privacy Act heading below.

Docket: For access to the docket to read background documents or comments, go to http://www.regulations.gov at any time or Room W12-140 on the ground level of the West Building, 1200 New Jersey Avenue, SE., Washington, DC, between 9 a.m. and 5 p.m., Monday through Friday, except Federal holidays. The DMS is available 24 hours each day, 365 days each year. If you want acknowledgment that we received your comments, please include a self-addressed, stamped envelope or postcard or print the acknowledgement page that appears after submitting comments on-line.

Privacy Act: Anyone may search the electronic form of all comments received into any of our dockets by the name of the individual submitting the comment (or of the person signing the comment, if submitted on behalf of an association, business, labor union, etc.). You may review the DOT's complete Privacy Act Statement in the Federal Register published on April 11, 2000 (65 FR 19477-78; Apr. 11, 2000). This information is also available at http://Docketinfo.dot.gov.

FOR FURTHER INFORMATION CONTACT: Dr. Mary D. Gunnels, Chief, Physical Qualifications Division, (202) 366-4001, fmcsamedical@dot.gov, FMCSA, Department of Transportation, 1200 New Jersey Avenue, SE., Room W64-224, Washington, DC 20590-0001. Office hours are from 8:30 a.m. to 5 p.m., Monday through Friday, except Federal holidays.

SUPPLEMENTARY INFORMATION:

Background

Under 49 U.S.C. 31136(e) and 31315, FMCSA may grant an exemption for a 2-year period if it finds “such exemption would likely achieve a level of safety that is equivalent to, or greater than, the level that would be achieved absent such exemption.” FMCSA can renew exemptions at the end of each 2-year period. The 27 individuals listed in this notice each have requested an exemption from the vision requirement in 49 CFR 391.41(b)(10), which applies to drivers of CMVs in interstate commerce. Accordingly, the Agency will evaluate the qualifications of each applicant to determine whether granting the exemption will achieve the required level of safety mandated by statute.

Qualifications of Applicants

Christopher L. Bagby

Mr. Bagby, age 42, has loss of vision in his right eye due to a misplaced pupil and cataract as a result of a traumatic injury sustained as a child. The best corrected visual acuity in his right eye is 20/1200 and in the left, 20/20. Following an examination in 2007, his optometrist noted, “Chris currently wears glasses and should continue to do so for driving. Other than that, I do not recommend any limitations on him for driving standard or commercial vehicles.” Mr. Bagby reported that he has driven straight trucks for 7 years, accumulating 182,000 miles, and tractor-trailer combinations for 4 years, accumulating 99,840 miles. He holds a Class A Commercial Driver's License (CDL) from Virginia. His driving record for the last 3 years shows no crashes and no convictions for moving violations in a CMV.

Robert W. Bequeaith

Mr. Bequeaith, 56, has loss of vision in his left eye due to a retinal detachment as a result of a traumatic injury sustained as a child. The best corrected visual acuity in his right eye is 20/16 and in the left, 20/150. Following an examination in 2007, his optometrist noted, “My impression is that Mr. Bequeaith has the visual ability to safely continue operating a commercial vehicle.” Mr. Bequeaith reported that he has driven straight trucks for 3 years, accumulating 30,000 miles, and tractor-trailer combinations for 37 years, accumulating 3.6 million miles. He holds a Class A CDL from Iowa. His driving record for the last 3 years shows no crashes and no convictions for moving violations in a CMV.

William R. Braun

Mr. Braun, 60, has had amblyopia in his left eye since birth. The best corrected visual acuity in his right eye is 20/20 and in the left, 20/70. Following an examination in 2007, his optometrist noted, “In my opinion, Mr. Braun has sufficient vision to perform the driving tasks required to operate a commercial vehicle.” Mr. Braun reported that he has driven buses for 4 years, accumulating 96,000 miles. He holds a Class A CDL from New Mexico. His driving record for the last 3 years shows no crashes and no convictions for moving violations in a CMV.

Lloyd K. Brown

Mr. Brown, 68, has a prosthetic left eye due to a traumatic injury sustained as a child. The best corrected visual acuity in his right eye is 20/20. Following an examination in 2007, his optometrist noted, “In my opinion, he has stable sufficient vision to continue operating a CMV.” Mr. Brown reported that he has driven straight trucks for 6 years, accumulating 3,300 miles, tractor-trailer combinations for 3½ years, accumulating 87,500 miles, and buses for 6 years, accumulating 79,200 miles. He holds a Class B CDL from Wyoming. His driving record for the last 3 years shows no crashes and no convictions for moving violations in a CMV.

Kecia D. Clark-Welch

Ms. Clark-Welch, 42, has had amblyopia in her right eye since birth. The best corrected visual acuity in her right eye is 20/60 and in the left, 20/20. Following an examination in 2007, her ophthalmologist noted, “Vision is sufficient to operate a commercial vehicle.” Ms. Clark-Welch reported that she has driven tractor-trailer combinations for 9 years, accumulating 151,200 miles. She holds a Class A CDL from North Carolina. Her driving record for the last 3 years shows no crashes and no convictions for moving violations in a CMV.

Earl S. Cooper

Mr. Cooper, 60, has had amblyopia in his left eye since childhood. The best corrected visual acuity in his right eye is 20/15 and in the left, 20/200. Following an examination in 2007, his optometrist noted, “Mr. Cooper, in my medical opinion, has sufficient vision to perform the driving tasks required to operate a commercial vehicle, as he has done for many years.” Mr. Cooper reported that he has driven straight trucks for 30 years, accumulating 600,000 miles, and tractor-trailer combinations for 35 years, accumulating 1.9 million miles. He holds a Class A CDL from North Carolina. His driving record for the last 3 years shows no crashes and no convictions for moving violations in a CMV.

Tommy R. Crouse

Mr. Crouse, 43, has a macular scar as a result of a traumatic injury sustained in 2003. The visual acuity in his right eye is count-finger-vision and in the left, 20/20. Following an examination in 2007, his optometrist noted, “Mr. Crouse should have no trouble performing the visual tasks required to drive a commercial vehicle.” Mr. Crouse reported that he has driven straight trucks for 2 years, accumulating 150,000 miles, and tractor-trailer combinations for 8 years, accumulating 800,000 miles. He holds a Class A CDL from Louisiana. His driving record for the last 3 years shows no crashes and no convictions for moving violations in a CMV.

Ben W. Davis

Mr. Davis, 58, has had amblyopia in his right eye since childhood. The best corrected visual acuity in his right eye is 20/50 and in the left, 20/20. Following an examination in 2007, his optometrist noted, “This patient has sufficient vision to perform the driving tasks required to operate a commercial vehicle in my professional opinion.” Mr. Davis reported that he has driven straight trucks for 19 years, accumulating 114,000 miles, and buses for 30 years, accumulating 60,000 miles. He holds a Class B CDL from Ohio. His driving record for the last 3 years shows no crashes and no convictions for moving violations in a CMV.

Charles A. DeKnikker, Sr.

Mr. DeKnikker, 54, has had amblyopia in his right eye since birth. The best corrected visual acuity in his right eye is 20/200 and in the left, 20/20. Following an examination in 2007, his optometrist noted, “I have seen Charles as a patient for over ten years and his correction and visual status is stable and has not changed. Therefore his vision is sufficient to perform the driving tasks required to operate a commercial vehicle.” Mr. DeKnikker reported that he has driven straight trucks for 35 years, accumulating 2.7 million miles, and tractor-trailer combinations for 19 years, accumulating 988,000 miles. He holds a Class A CDL from Nevada. His driving record for the last 3 years shows no crashes and no convictions for moving violations in a CMV.

Everett E. Denny

Mr. Denny, 49, has complete loss of vision in his left eye due to aphakia and glaucoma as a result of a traumatic injury sustained as a child. The visual acuity in his right eye is 20/15. Following an examination in 2007, his optometrist noted, “His vision and field of vision in the right eye remains excellent and is more than adequate to operate a commercial vehicle.” Mr. Denny reported that he has driven straight trucks for 23 years, accumulating 1.4 million miles. He holds a Class A CDL from Oklahoma. His driving record for the last 3 years shows no crashes and one conviction for a moving violation, speeding in a CMV. He exceeded the speed limit by 10 mph.

Nigel L. Farmer

Mr. Farmer, 45, has had amblyopia in his left eye since childhood. The best corrected visual acuity in his right eye is 20/25 and in the left, 20/400. Following an examination in 2007, his optometrist noted, “I certify that in my medical opinion, Mr. Farmer has sufficient vision to perform the driving tasks required to operate a commercial vehicle.” Mr. Farmer reported that he has driven straight trucks for 24 years, accumulating 792,000 miles. He holds a Class A CDL from Connecticut. His driving record for the last 3 years shows no crashes and no convictions for moving violations in a CMV.

Earl M. Frederick, Jr.

Mr. Frederick, 45, has had amblyopia in his right eye since childhood. The visual acuity in his right eye is 20/400 and in the left, 20/20. Following an examination in 2007, his ophthalmologist noted, “You will note that the patient has adequate color vision, horizontal vision and his left visual acuity is 20/20, which should enable him to receive his commercial driver's license without problem.” Mr. Frederick reported that he has driven straight trucks for 23 years, accumulating 460,000 miles. He holds a Class D operator's license from South Carolina. His driving record for the last 3 years shows no crashes and no convictions for moving violations in a CMV.

Lorne H. Geiken

Mr. Geiken, 36, has had amblyopia in his right eye since childhood. The best corrected visual acuity in his right eye is 20/70 and in the left, 20/20. Following an examination in 2007, his optometrist noted, “In my opinion, I feel Lorne has a stable visual system and should have sufficient vision to perform the driving tasks required to operate a commercial vehicle.” Mr. Geiken reported that he has driven tractor-trailer combinations for 5 years, accumulating 625,000 miles. He holds a Class A CDL from South Dakota. His driving record for the last 3 years shows no crashes and no convictions for moving violations in a CMV.

John E. Halcomb

Mr. Halcomb, 40, had his right eye enucleated due to corneal damage sustained as a child. The visual acuity in his left eye is 20/20. Following an examination in 2006, his optometrist noted, “I certify that in my medical opinion, Mr. Halcomb has sufficient vision to perform the driving tasks required to operate a commercial vehicle.” Mr. Halcomb reported that he has driven straight trucks for 3 years, accumulating 15,000 miles, and tractor-trailer combinations for 18 years, accumulating 1.8 million miles. He holds a Class A CDL from Georgia. His driving record for the last 3 years shows no crashes and no convictions for moving violations in a CMV.

Michael A. Hershberger

Mr. Hershberger, 50, has had amblyopia in his left eye since birth. The best corrected visual acuity in his right eye is 20/20 and in the left, 20/400. Following an examination in 2007, his optometrist noted, “Based on these findings, it is my opinion that Michael Hershberger has sufficient vision to perform the tasks required to operate a commercial vehicle.” Mr. Hershberger reported that he has driven straight trucks for 5 years, accumulating 200,000 miles, and tractor-trailer combinations for 25 years, accumulating 2 million miles. He holds a Class A CDL from Ohio. His driving record for the last 3 years shows no crashes and no convictions for moving violations in a CMV.

Patrick J. Hogan, Jr.

Mr. Hogan, 36, had his right eye enucleated due to a retinoblastoma that required removal of the eye when he was a child. The visual acuity in his left eye is 20/20. Following an examination in 2007, his optometrist noted, “Based on today's examination, in my medical opinion, Mr. Hogan has sufficient vision to perform the driving tasks required to operate a commercial vehicle.” Mr. Hogan reported that he has driven straight trucks for 12 years, accumulating 144,000 miles. He holds a Class A CDL from Delaware. His driving record for the last 3 years shows no crashes and no convictions for moving violations in a CMV.

Donald W. Holt

Mr. Holt, 56, has loss of vision in his left eye due to scotoma since 1983. The best corrected visual acuity in his right eye is 20/20 and in the left, 20/200. Following an examination in 2007, his optometrist noted, “In my medical opinion, patient has enough and sufficient vision to operate a commercial vehicle.” Mr. Holt reported that he has driven straight trucks for 12 years, accumulating 960,000 miles. He holds a Class D operator's license from Massachusetts. His driving record for the last 3 years shows no crashes and one conviction for a moving violation, speeding in a CMV. He exceeded the speed limit by 16 mph.

Judy L. Marshall

Ms. Marshall, 43, has had amblyopia in her left eye since childhood. The visual acuity in her right eye is 20/20 and in the left, 20/400. Following an examination in 2007, her optometrist noted, “Patient has sufficient vision to operate commercial vehicle.” Ms. Marshall reported that she has driven straight trucks for 3 years, accumulating 105,000 miles, and tractor-trailer combinations for 3 years, accumulating 105,000 miles. She holds a Class D operator's license from South Carolina. Her driving record for the last 3 years shows no crashes and no convictions for moving violations in a CMV.

Mark A. Massengill

Mr. Massengill, 49, has loss of vision in his right eye due to retinal scarring as a result of a traumatic injury sustained as a child. The best corrected visual acuity in his right eye is 20/400 and in the left, 20/20. Following an examination in 2007, his optometrist noted, “It is my distinct and unequivocal opinion that Mr. Massengill has sufficient vision to perform the driving tasks required to operate a commercial vehicle.” Mr. Massengill reported that he has driven straight trucks for 30 years, accumulating 3.9 million miles, and tractor-trailer combinations for 30 years, accumulating 3.9 million miles. He holds a Class A CDL from Mississippi. His driving record for the last 3 years shows no crashes and no convictions for moving violations in a CMV.

Todd A. McBrain

Mr. McBrain, 40, has loss of vision in his left eye due to a cataract as a result of a traumatic injury sustained as a child. The best corrected visual acuity in his right eye is 20/20 and in the left, 20/200. Following an examination in 2007, his ophthalmologist noted, “Yes, Mr. McBrain has sufficient vision to perform the driving task to operate a commercial vehicle.” Mr. McBrain reported that he has driven straight trucks for 8 years, accumulating 4,000 miles. He holds a Class D operator's license from Oklahoma. His driving record for the last 3 years shows no crashes and no convictions for moving violations in a CMV.

Amilton T. Monteiro

Mr. Monteiro, 26, has had amblyopia in his right eye since childhood. The best corrected visual acuity in his right eye is 20/200 and in the left, 20/20. Following an examination in 2007, his ophthalmologist noted, “In my medical opinion, Mr. Monteiro has sufficient vision to perform the driving tasks required to operate a commercial vehicle.” Mr. Monteiro reported that he has driven straight trucks for 7 years, accumulating 280,000 miles. He holds a Class D operator's license from Massachusetts. His driving record for the last 3 years shows no crashes and no convictions for moving violations in a CMV.

Dennis D. Moore

Mr. Moore, 55, has had amblyopia in his left eye since childhood. The best corrected visual acuity in his right eye is 20/20 and in the left, 20/300. Following an examination in 2007, his ophthalmologist noted, “I certify that he has sufficient vision to perform the driving tasks required to operate a commercial vehicle in my medical opinion.” Mr. Moore reported that he has driven straight trucks for 30 years, accumulating 270,000 miles, and tractor-trailer combinations for 30 years, accumulating 2.9 million miles. He holds a Class A CDL from New Hampshire. His driving record for the last 3 years shows no crashes and no convictions for moving violations in a CMV.

David G. Oakley

Mr. Oakley, 47, has amblyopia in his right eye since birth. The best corrected visual acuity in his right eye is 20/200 and in the left, 20/20. Following an examination in 2007, his ophthalmologist noted, “It is in my professional opinion that he has sufficient vision to perform the driving tasks required to operate a commercial vehicle.” Mr. Oakley reported that he has driven straight trucks for 5 years, accumulating 200,000 miles. He holds a Class D operator's license from South Carolina. His driving record for the last 3 years shows no crashes and no convictions for moving violations in a CMV.

John S. Olsen

Mr. Olsen, 57, has loss of vision in his right eye due to a birth defect. The visual acuity in his right eye is 20/200 and in the left, 20/20. Following an examination in 2007, his optometrist noted, “After examining Mr. Olsen it is my professional impression that he has sufficient functional vision to drive a commercial vehicle.” Mr. Olsen reported that he has driven straight trucks for 42 years, accumulating 420,000 miles, tractor-trailer combinations for 42 years, accumulating 420,000 miles, and buses for 42 years, accumulating 21,000 miles. He holds a Class A CDL from Pennsylvania. His driving record for the last 3 years shows no crashes and no convictions for moving violations in a CMV.

Thomas J. Prusik

Mr. Prusik, 60, has had amblyopia in his right eye since birth. The best corrected visual acuity in his right eye is 20/100 and in the left, 20/20. Following an examination in 2007, his optometrist noted, “With the left eye's VA of 20/20 uncorrected/corrected at distance, patient has sufficient vision to perform the driving tasks required to operate a commercial vehicle.” Mr. Prusik reported that he has driven straight trucks for 41½ years, accumulating 311,250 miles. He holds a Class A CDL from New Jersey. His driving record for the last 3 years shows no crashes and no convictions for moving violations in a CMV.

Glen W. Sterling

Mr. Sterling, 42, has loss of vision in his right eye due to a macular scar as a result of a traumatic injury sustained as a child. The visual acuity in his right eye is 20/20 and in the left, 20/200. Following an examination in 2007, his optometrist noted, “In my medical opinion, Mr. Sterling has sufficient vision to perform the driving tasks required to operate a commercial vehicle.” Mr. Sterling reported that he has driven straight trucks for 5 years, accumulating 25,000 miles, and tractor-trailer combinations for 4 years, accumulating 60,000 miles. He holds a Class D chauffeur's license from Louisiana. His driving record for the last 3 years shows no crashes and no convictions for moving violations in a CMV.

Calvin D. Tubergen

Mr. Tubergen, 59, has had amblyopia in his right eye since childhood. The best corrected visual acuity in his right eye is 20/60 and in the left, 20/20. Following an examination in 2006, his optometrist noted, “In my medical opinion, Calvin's deficiency in his right eye is stable and not progressive; and that he has sufficient vision to perform the tasks required to operate a commercial vehicle.” Mr. Tubergen reported that he has driven tractor-trailer combinations for 7 years, accumulating 280,000 miles. He holds a Class A CDL from Michigan. His driving record for the last 3 years shows no crashes and two convictions for moving violations, one for failure to obey a traffic signal, and one for speeding in a CMV. He exceeded the speed limit by 10 mph.

Request for Comments

In accordance with 49 U.S.C. 31136(e) and 31315, FMCSA requests public comment from all interested persons on the exemption petitions described in this notice. The Agency will consider all comments received before the close of business November 14, 2007. Comments will be available for examination in the docket at the location listed under the ADDRESSES section of this notice. The Agency will file comments received after the comment closing date in the public docket, and will consider them to the extent practicable. In addition to late comments, FMCSA will also continue to file, in the public docket, relevant information that becomes available after the comment closing date. Interested persons should monitor the public docket for new material.

Issued on: October 5, 2007.
Larry W. Minor,
Associate Administrator for Policy and Program Development.

[FR Doc. E7-20208 Filed 10-12-07; 8:45 am]

BILLING CODE 4910-EX-P